DEPARTMENT OF TRANSPORTATION

Federal Aviation Administration

14 CFR Part 39

[Docket No. FAA-2006-24733; Project Identifier MCAI-2021-00139-R]

RIN 2120-AA64

Airworthiness Directives; Airbus Helicopters (Type Certificate Previously Held by Eurocopter France) and Eurocopter France Helicopters

AGENCY: Federal Aviation Administration (FAA), DOT.

ACTION: Supplemental notice of proposed rulemaking (SNPRM).

SUMMARY: The FAA is revising a notice of proposed rulemaking (NPRM) to supersede AD 2002-08-16, which applies to certain Eurocopter France SA341G, SA342J, and SA-360C helicopters. The NPRM proposed to require removing certain main rotor head torsion tie bars (tie bars) from service and revising the limitations section of the existing maintenance manual for your helicopter by adding life limits for those tie bars. The NPRM was prompted by the determination that another part-numbered tie bar was affected by the same unsafe condition. This action reopens the comment period because a significant amount of time has elapsed since the NPRM was published. This action also revises the NPRM by updating the type certificate holder's name, updating the estimated cost information, clarifying the requirements and compliance times, and adding parts installation prohibitions. The FAA is proposing this airworthiness directive (AD) to address the unsafe condition on these products. Since these actions would impose an additional burden over those in the NPRM, the agency is requesting comments on this SNPRM.

DATES: The FAA must receive comments on this SNPRM by June 21, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For Eurocopter service information identified in this SNPRM, contact Airbus Helicopters, 2701 N. Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2006-24733; or in person at Docket Operations between 9 a.m. and 5 p.m., Monday through Friday, except Federal holidays. The AD docket contains the NPRM, this SNPRM, the Direction Generale De L'Aviation Civile (DGAC) ADs, any comments received, and other information. The street address for Docket Operations is listed above.

FOR FURTHER INFORMATION CONTACT: Hal Jensen, Aerospace Engineer, Operational Safety Branch, FAA, 950 L'Enfant Plaza N SW, Washington, DC 20024; telephone (202) 267-9167; email hal.jensen@faa.gov.

SUPPLEMENTARY INFORMATION:

Comments Invited

The FAA invites you to send any written relevant data, views, or arguments about this proposal. Send your comments to an address listed under ADDRESSES. Include “Docket No. FAA-2006-24733; Project Identifier MCAI-2021-00139-R” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Hal Jensen, Aerospace Engineer, Operational Safety Branch, FAA, 950 L'Enfant Plaza N SW, Washington, DC 20024; telephone (202) 267-9167; email hal.jensen@faa.gov. Any commentary that the FAA receives which is not specifically designated as CBI will be placed in the public docket for this rulemaking.

Background

The FAA issued an NPRM to amend 14 CFR part 39 to remove AD 2002-08-16 (67 FR 19640, April 23, 2002) (AD 2002-08-16), and add a new AD. AD 2002-08-16 applies to Eurocopter France Model SA341G, SA342J, and SA-360C helicopters with a tie bar part number (P/N) 341A31-4904-00, -01, -02, -03; 341A31-4933-00, -01; or 360A31-1097-02, -03, installed. The NPRM published in the Federal Register on May 10, 2006 (71 FR 27215). The NPRM proposed to continue to require removing certain tie bars from service and revising the limitations section of the existing maintenance manual for your helicopter by adding life limits for those tie bars. The NPRM also proposed adding tie bar P/N 704A33-633-270 to the applicability, and to require removing it from service within 600 hours time-in-service (TIS) or 2 years, whichever occurs first, and revising the limitations section of the existing maintenance manual for your helicopter accordingly. The NPRM was prompted by DGAC AD 2001-587-041(A) R2, dated January 8, 2003 (DGAC AD 2001-587-041(A) R2), issued by the DGAC, which was the Technical Agent for France, to correct an unsafe condition for Model SA 341/342 helicopters. The DGAC advised of another affected tie-bar P/N 704A33-633-270 and additional flight restrictions for the new-affected tie bar. The DGAC also advised that Eurocopter issued Alert Service Bulletin No. 01.29, Revision 0, dated December 4, 2002 (ASB 01.29), to cancel Alert Telex (AT) No. 01.28, dated August 7, 2001, and supersede AT 01.29, Revision 1, dated December 11, 2001. This condition, if not addressed, could result in failure of a tie bar and subsequent loss of control of the helicopter.

Accordingly, DGAC AD 2001-587-041(A) R2, along with DGAC AD 2001-588-047(A) R1, dated December 26, 2001 (DGAC AD 2001-588-047(A) R1), for Model SA 360 helicopters, require removing certain part-numbered tie bars from service and a life limit for certain other part-numbered tie bars.

Actions Since the NPRM Was Issued

Since the NPRM was issued, a significant amount of time has elapsed requiring the FAA to reopen the comment period to allow the public a chance to comment on the proposed actions.

Additionally, since the FAA issued the NPRM, Eurocopter France has changed its name to Airbus Helicopters. This SNPRM reflects that change and updates the contact information to obtain service documentation. This SNPRM also updates the estimated cost information.

Additional review also revealed necessary changes to address the unsafe condition. This SNPRM proposes to clarify that the compliance times of requirements continued from AD 2002-08-16 are effective after the effective date of AD 2002-08-16, clarify instances of life limits specified in calendar time that they are since initial installation of the tie bar on any helicopter, clarify one instance of a life limit that it is total hours TIS or calendar time—whichever occurs first, and add parts installation prohibitions. This SNPRM also updates the AD format. As a result, paragraph identifiers have changed, editorial changes have been made to meet current publishing requirements, and the proposed requirements have been revised by removing unnecessary information.

The FAA's Aircraft Certification Service has also changed its organizational structure. The new structure replaces product directorates with functional divisions. The FAA has revised some of the office titles and nomenclature throughout this proposed AD to reflect the new organizational changes. Additional information about the new structure can be found in the Notice published on July 25, 2017 (82 FR 34564).

Lastly, the identification of “Directorate Identifier 2005-SW-08-AD” has been changed to “Project Identifier MCAI-2021-00139-R.”

Comments

The following discussion presents the comments received on the NPRM and the FAA's response.

Request

One commenter opposed the proposed AD without requesting any changes to the NPRM or on the determination of the cost. The FAA has made no changes based on this comment.

FAA's Determination

These helicopters have been approved by the European Union Aviation Safety Agency (EASA) and are approved for operation in the United States. Pursuant to the FAA's bilateral agreement with the European Union, the FAA has been notified about the unsafe condition described in the DGAC ADs. The FAA is proposing this AD after determining the unsafe condition described previously is likely to exist or develop in other helicopters of the same type designs. Certain changes described above expand the scope of the NPRM. As a result, it is necessary to reopen the comment period to provide additional opportunity for the public to comment on this SNPRM.

Related Service Information

The FAA reviewed Eurocopter ASB 01.29 and Eurocopter AT No. 01.39, Revision 1, dated December 11, 2001. This service information specifies removing certain part-numbered tie bars at specified life limits.

Proposed AD Requirements in This SNPRM

This proposed AD would require removing tie bars P/N 341A31-4904-00, -01, -02, and -03; and 360A31-1097-02 and -03 from service and prohibit installing those part-numbered tie bars on any helicopter. This proposed AD would also initially require removing tie bars P/N 341A31-4933-00 and -01; and 704A33-633-270 from service if they have accumulated or exceeded the specified life limit, and thereafter removing those part-numbered tie bars before accumulating the specified life limit.

Differences Between This SNPRM and the DGAC ADs

For an affected tie bar that has accumulated 7 or more years since initial installation on any helicopter, DGAC AD 2001-587-041(A) R2 requires removing the tie bar before next flight, whereas this proposed AD allows removal within 5 hours TIS instead.

For an affected tie bar that has accumulated 15 or more years since initial installation on any helicopter, DGAC AD 2001-588-047(A) R1 requires removing the tie bar before next flight, whereas this proposed AD does not. For an affected tie bar that has accumulated 7 or more years since initial installation on any helicopter, DGAC AD 2001-588-047(A) R1 requires removing the tie bar before next flight, whereas this proposed AD allows removal within 5 hours TIS instead. DGAC AD 2001-588-047(A) R1 allows a ferry flight not to exceed 5 hours to return the helicopter to a maintenance base, where as special flight permits are prohibited by this proposed AD.

Costs of Compliance

The FAA estimates that this AD, if adopted as proposed, would affect 29 helicopters of U.S. Registry. Labor rates are estimated at $85 per work-hour. Based on these numbers, the FAA estimates the following costs to comply with this proposed AD.

Replacing a tie bar would take about 1.5 work-hours and parts would cost about $9,579 for an estimated cost of $9,707 per tie bar.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2002-08-16, Amendment 39-12725 (67 FR 19640, April 23, 2002); and

b. Adding the following new airworthiness directive:

Airbus Helicopters (Type Certificate Previously Held by Eurocopter France) and Eurocopter France: Docket No. FAA-2006-24733; Project Identifier MCAI-2021-00139-R.

(a) Comments Due Date

The FAA must receive comments on this airworthiness directive (AD) action by June 21, 2021.

(b) Affected ADs

This AD replaces AD 2002-08-16, Amendment 39-12725 (67 FR 19640, April 23, 2002) (AD 2002-08-16).

(c) Applicability

This AD applies to Airbus Helicopters (type certificate previously held by Eurocopter France) Model SA341G and SA342J and Eurocopter France Model SA-360C helicopters, certificated in any category, with a main rotor head torsion tie bar (tie bar), part number (P/N) 341A31-4904-00, -01, -02, -03; 341A31-4933-00, -01; 360A31-1097-02, -03; or 704A33-633-270, installed.

(d) Subject

Joint Aircraft Service Component (JASC) Code: 6220, Main Rotor Head.

(e) Unsafe Condition

This AD was prompted by an accident caused by the failure of a tie bar. The FAA is issuing this AD to prevent failure of a tie bar, which if not addressed, could result in loss of a main rotor blade and subsequent loss of control of the helicopter.

(f) Compliance

Comply with this AD within the compliance times specified, unless already done.

(g) Required Actions

(1) For tie bar P/N 341A31-4904-00, -01, -02, and -03; and 360A31-1097-02 and -03, before further flight after May 8, 2002 (the effective date of AD 2002-08-16), remove the tie bar from service.

(2) For each tie bar P/N 341A31-4933-00 and -01:

(i) Before further flight after May 8, 2002 (the effective date of AD 2002-08-16), determine the date of initial installation on any helicopter, or if the date of initial installation cannot be determined, use the date of manufacture.

(A) For a tie bar that has accumulated 7 or more years since initial installation on any helicopter, within 5 hours time-in-service (TIS) after May 8, 2002 (the effective date of AD 2002-08-16), remove the tie bar from service.

(B) For a tie bar manufactured before 1995 that has accumulated less than 7 years since initial installation on any helicopter, before accumulating 7 years since initial installation on any helicopter, before accumulating 300 total hours TIS, or within 1 year after May 8, 2002 (the effective date of AD 2002-08-16), whichever occurs first, remove the tie bar from service.

(C) For a tie bar manufactured in 1995 or later that has accumulated less than 7 years since initial installation on any helicopter, before accumulating 7 years since initial installation on any helicopter, before accumulating 600 total hours TIS, or within 2 years after May 8, 2002 (the effective date of AD 2002-08-16), whichever occurs first, remove the tie bar from service.

(ii) Thereafter following paragraph (g)(2)(i) of this AD, remove any tie bar P/N 341A31-4933-00 and -01 from service as follows:

(A) For a tie bar manufactured before 1995, remove the tie bar from service before accumulating 300 total hours TIS or 1 year since initial installation on any helicopter, whichever occurs first, and

(B) For a tie bar manufactured in 1995 or later, remove the tie bar from service before accumulating 600 total hours TIS or 2 years since initial installation on any helicopter, whichever occurs first.

(3) For tie bar P/N 704A33-633-270:

(i) Before further flight after the effective date of this AD, determine the date of initial installation on any helicopter, or if the date of initial installation cannot be determined, use the date of manufacture.

(ii) If the tie bar has accumulated 600 or more total hours TIS or 2 or more years since initial installation on any helicopter, whichever occurs first, before further flight, remove the tie bar from service.

(iii) If the tie bar has accumulated less than 600 total hours TIS or 2 years since initial installation on any helicopter, whichever occurs first, remove the tie bar from service before accumulating 600 total hours TIS or 2 years since initial installation on any helicopter, whichever occurs first.

(iv) Thereafter following paragraph (g)(3)(ii) or (iii) of this AD, remove any tie bar P/N 704A33-633-270 from service before accumulating 600 total hours TIS or 2 years since initial installation on any helicopter, whichever occurs first.

(4) As of the effective date of this AD, do not install tie bar P/N 341A31-4904-00, -01, -02, or -03; or 360A31-1097-02 or -03, on any helicopter.

(h) Special Flight Permits

Special flight permits are prohibited.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Hal Jensen, Aerospace Engineer, Operational Safety Branch, FAA, 950 L'Enfant Plaza N SW, Washington, DC 20024; telephone (202) 267-9167; email hal.jensen@faa.gov.

(2) The subject of this AD is addressed in Direction Generale De L'Aviation Civile (France) ADs 2001-588-047(A) R1, dated December 26, 2001, and 2001-587-041(A) R2, dated January 8, 2003. You may view those ADs on the internet at https://www.regulations.gov in the AD Docket.

Issued on May 11, 2021.
Gaetano A. Sciortino,
Deputy Director for Strategic Initiatives, Compliance & Airworthiness Division, Aircraft Certification Service.

[FR Doc. 2021-10352 Filed 5-19-21; 8:45 am]

BILLING CODE 4910-13-P